DEPARTMENT OF AGRICULTURE

Submission for OMB Review; Comment Request

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 7, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Advanced Meat Recovery Systems.

OMB Control Number: 0583-0130.

Summary of Collection: The Food Safety and Inspection Service (FSIS) requires that official establishments that produce meat from Advanced Meat Recovery (AMR) systems ensure that bones used for AMR systems do not contain brain, trigeminal ganglia, or spinal cord; to test for calcium (at a different level than previously required), iron, spinal cord, and dorsal root ganglia (DRG); to document their testing protocols, to assess the age of cattle product used in the AMR system, and to document their procedures for handling product in a manner that does not cause product to be misbranded or adulterated; and to maintain records of their documentation and test results (9 CFR 318.24). FSIS has been delegated the authority to exercise the functions of the Secretary as provided in the Federal Meat Inspection Act (FMIA) (21 U.S.C. 601 et seq.) This statute mandate that FSIS protect the public by ensuring that meat products are safe, wholesome, and properly labeled and packaged.

Need and Use of the Information: FSIS will collect information from establishments to verify that the meat product produced by the use of AMR systems is free from Bovine Spongiform Encephalopathy (BSE).

Description of Respondents: Business or other for-profit.

Number of Respondents: 47.

Frequency of Responses: Recordkeeping; Reporting: on occasion.

Total Burden Hours: 21,159.

Ruth Brown,
Departmental Information Collection Clearance Officer.

[FR Doc. 2023-09720 Filed 5-5-23; 8:45 am]

BILLING CODE 3410-DM-P